DEPARTMENT OF COMMERCE

International Trade Administration

[A-533-847]

1-Hydroxyethylidene-1, 1-Diphosphonic Acid From India: Rescission of Antidumping Duty Administrative Review; 2012-2013

AGENCY: Import Administration, International Trade Administration, Department of Commerce.

FOR FURTHER INFORMATION CONTACT: Brandon Custard or David Goldberger, AD/CVD Operations, Office 2, Import Administration, International Trade Administration, U.S. Department of Commerce, 14th Street and Constitution Avenue NW., Washington, DC, 20230; telephone: (202) 482-1823 or (202) 482-4136, respectively.

SUPPLEMENTARY INFORMATION:

Background

On April 2, 2013, the Department of Commerce (the Department) published in the Federal Register a notice of “Opportunity to Request Administrative Review” of the antidumping duty order on 1-hydroxyethylidene-1, 1-diphosphonic acid (HEDP) from India for the period of review (POR) of April 1, 2012, through March 31, 2013.¹

¹ See Antidumping or Countervailing Duty Order, Finding, or Suspended Investigation; Opportunity to Request Administrative Review, 78 FR 19645, 19646 (April 2, 2013).

On April 29, 2013, in accordance with section 751(a)(1) of the Tariff Act of 1930, as amended (the Act), and 19 CFR 351.213(b)(2), the Department received a timely request from Aquapharm Chemicals Pvt Ltd (Aquapharm), a producer and exporter of subject merchandise, to conduct an administrative review of its exports to the United States during the POR.² No other interested party requested an administrative review of the antidumping duty order on HEDP from India for the POR.

² See April 29, 2013, letter from Aquapharm to the Department.

On June 3, 2013, the Department published in the Federal Register a notice of initiation of an administrative review of the antidumping duty order on HEDP from India.³ On June 4, 2013, Aquapharm timely withdrew its request for a review.⁴

³ See Initiation of Antidumping and Countervailing Duty Administrative Reviews and Request for Revocation in Part, 78 FR 33052, 33054 (June 3, 2013).

⁴ See June 4, 2013, letter from Aquapharm to the Department.

Rescission of Review

Pursuant to 19 CFR 351.213(d)(1), the Department will rescind an administrative review, in whole or in part, if the parties that requested a review withdraw the request within 90 days of the date of publication of notice of initiation of the requested review. Aquapharm withdrew its request for review before the 90-day deadline, and no other party requested an administrative review of the antidumping duty order. Therefore, pursuant to 19 CFR 351.213(d)(1), we are rescinding this review in whole.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

This notice is published in accordance with section 751 of the Act and 19 CFR 351.213(d)(4).

Dated: June 24, 2013.
Christian Marsh,
Deputy Assistant Secretary for Antidumping and Countervailing Duty Operations.

[FR Doc. 2013-15547 Filed 6-27-13; 8:45 am]

BILLING CODE 3510-DS-P